DEPARTMENT OF AGRICULTURE

Food and Nutrition Service

Agency Information Collection Activities: Study of WIC Food Package Costs and Cost Containment

AGENCY: Food and Nutrition Service (FNS), USDA.

ACTION: Notice.

SUMMARY: In accordance with the Paperwork Reduction Act of 1995, this notice invites the general public and other public agencies to comment on this proposed information collection. This collection is a new Information Collection for The Study of WIC Food Package Costs and Cost Containment.

DATES: Written comments on this notice must be received on or before May 9, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology. Comments may be sent to: Anna Potter, Policy Analyst, Office of Policy Support, Food and Nutrition Service, U.S. Department of Agriculture, 3101 Park Center Drive, Room 1004, Alexandria, VA 22302. Comments may also be submitted via fax to the attention of Anna Potter at 703-305-2576 or via email to anna.potter@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Anna Potter at 703-305-2719.

SUPPLEMENTARY INFORMATION: Title: Study of WIC Food Package Costs and Cost Containment.

Form Number: N/A.

OMB Number: Not Yet Assigned.

Expiration Date: Not Yet Determined.

Type of Request: New collection.

Abstract: The Special Supplemental Nutrition Program for Women, Infants, and Children (WIC) provides supplemental foods to safeguard the health of low-income pregnant and post-partum women, infants, and children up to 5 years of age who are at nutritional risk. In an effort to ensure the best use of available funds and to provide for participation by eligible individuals, WIC State agencies (SAs) are responsible for implementing food package and other cost containment measures. FNS has funded this study to gather information on the types of cost-containment practices used by the 90 WIC SAs, assess the effectiveness of various practices, and identify those practices that constrain the cost of WIC foods with minimal increases to administrative costs and no adverse effects on WIC program outcomes such as participant satisfaction, retention, and consumption of WIC foods. The findings will be used by FNS to share with WIC SAs food item cost containment practices that are effective at reducing WIC food costs.

The information collection subject to this notice includes the following:

1. Telephone interviews with WIC directors in all 90 WIC SAs: Needed to obtain information on cost containment measures, reasons for implementing certain cost containment strategies and not others, opinions on effects on program outcomes, and challenges of implementing and maintaining measures.

2. Collection of administrative costs of practices, administrative WIC data, and electronic benefit transfer (EBT) data in 12 WIC SAs: Administrative data are needed to assess administrative costs and examine participant characteristics, food package prescriptions, indicators of health, and income; EBT data are needed to examine WIC food selections, benefit redemption, and WIC food costs.

3. Telephone interviews with 2,895 WIC participants in 12 WIC SAs: Needed to provide information on WIC participants' satisfaction with WIC foods, consumption, and preferences; access to WIC vendors and food package items; specific special diets or food allergies; and demographic characteristics.

4. Telephone interviews with 375 former WIC participants in 3 WIC SAs: Needed to provide information on whether/which cost containment practices may have contributed to WIC participants leaving the program and why.

Affected Public: State, local, and tribal governments; individuals/households.

Estimated Number of Respondents: The estimated total number of respondents is 3,372. This total includes 90 WIC directors; 12 WIC SA staff; 2,895 WIC participants; and 375 former WIC participants.

Estimated Number of Responses per Respondent: The WIC directors, WIC participants, and former WIC participants will respond once to one telephone survey. The 12 WIC SA staff will respond twice to provide administrative data at two points in time (in one year). All respondents will be contacted with advance communications (letters, emails, and/or phone calls), and WIC directors and WIC SA staff will also be contacted with follow-up communications (reminders and thank-you emails).

Estimated Total Annual Responses: The estimated number of total annual responses is 9,863, including advance communications, completed and attempted interviews, data collections, and follow-up communications. The 9,863 responses are based on the sum of 8,372 advance communications, completed interviews, data collections, and follow-up communications, and 1,491 attempted contacts and interviews.

Estimated Time per Response: Response times overall may vary from 0.05 hours to 2 hours, depending on the activity and respondent group. The estimated time per interview (or administrative data collection) ranges from 0.33 hours to 2 hours, depending on actual activity and respondent group. The overall average time per respondent is 0.21 hours (13 minutes). Specifically, public reporting burden for this collection of information is estimated to average—

• 0.92 hours (55 minutes) for each of the 90 WIC directors (this includes 10 minutes for advance and follow-up activities and 45 minutes to complete the telephone interview).

• 5 hours (300 minutes) for each of the 12 WIC SA staff (this includes 60 minutes for advance and follow-up activities and 4 hours to gather administrative and EBT data and information on the administrative costs of practices).

• 0.6 hours (36 minutes) for each of the 4,136 WIC participants sampled for the survey (this includes 3 minutes for advance communication, 30 minutes for those who complete the telephone interview, and 3 minutes for those who do not complete the interview).

• 0.43 (26 minutes) for each of the 625 former WIC participants sampled for the survey (this includes 3 minutes for advance communication, 20 minutes for those who complete the telephone interview, and 3 minutes for those who do not complete the interview).

Estimated Total Annual Burden on Respondents: The estimated total annual burden is estimated to be 2,086 hours (including advance and follow-up communication, completed and attempted interviews, and completed data collection). See the table below for estimated total annual burden for each type of respondent.

Data collection activity | Respondents | Estimated number of respondents | Frequency of: Response | Frequency of: Total annual responses | Average burden hours per response | Total annual burden estimate (hours)
Advance communications (letter/email) | WIC directors | 90 | 1 | 90 | 0.083 | 7.5
Telephone interview | WIC directors | 90 | 1 | 90 | 0.75 | 67.5
Follow-up communications (reminder/thank-you emails) | WIC directors | 90 | 1 | 90 | 0.083 | 7.5
Advance communications (letter/email/phone call) | WIC SA staff | 12 | 2 | 24 | 0.5 | 12
Administrative and EBT data collection and submission | WIC SA staff | 12 | 2 | 24 | 4 | 96
Follow-up communications (reminder or clarification emails/phone calls, thank-you emails) | WIC SA staff | 12 | 2 | 24 | 0.5 | 12
Advance communications (letter) | WIC participants | 4,136 | 1 | 4,136 | 0.05 | 206.8
Telephone survey: completed interviews | WIC participants | 2,895 | 1 | 2,895 | 0.50 | 1,447.5
Telephone survey: attempted interviews | WIC participants | 1,241 | 1 | 1,241 | 0.05 | 62.0
Advance letters | WIC former participants | 625 | 1 | 625 | 0.05 | 31.3
Telephone survey: completed interviews | WIC former participants | 375 | 1 | 375 | 0.33 | 123.8
Telephone survey: attempted interviews | WIC former participants | 250 | 1 | 250 | 0.05 | 12.5
Total |  | 3,372 |  | 9,863 | 0.21 | 2,086.3

Dated: February 25, 2016.
Audrey Rowe,
Administrator, Food and Nutrition Service.

[FR Doc. 2016-05338 Filed 3-9-16; 8:45 am]

BILLING CODE 3410-30-P